NATIONAL SCIENCE FOUNDATION

Proposal Review Panel for Materials Research; Notice of Meeting

In accordance with the Federal Advisory Committee Act (Pub. L. 92-463, as amended), the National Science Foundation (NSF) announces the following meeting:

Name and Committee Code: Proposal Review Panel for Materials Research—Science and Technology Center (STC) Site Visit University of Washington (#1203).

Date and Time: June 27, 2024; 8:30 a.m.-5:00 p.m., June 28, 2024; 8:00 a.m.-4:15 p.m.

Place: University of Washington STC, 1135 NE Campus Pkwy., Seattle WA 98105.

Type of Meeting: Part-Open.

Contact Persons: Meulenberg, Rob, National Science Foundation, 2415 Eisenhower Avenue, Alexandria, VA 22314; Telephone: 703-292-7106.

Purpose of Meeting: NSF site visit to provide advice and recommendations concerning further NSF support for the Center.

Agenda: To conduct an in depth evaluation of performance, to assess progress towards goals, and to provide recommendations.

Monday, June 27, 2024

8:30 a.m.-10:00 a.m.—Welcome (Open)

10:00 a.m.-11:30 a.m.—Executive Sessions (Closed)

11:40 a.m.-12:30 p.m.—Lunch (Open)

12:40 p.m.-1:00 p.m.—Executive Session (Closed)

1:00 p.m.-2:00 p.m.—Poster Session (Open)

2:00 p.m.-5:00 p.m.—Executive Sessions (Closed)

Tuesday, June 28, 2024

8:00 a.m.-4:15 p.m.—Executive Sessions (Closed)

Reason for Closing: The program being reviewed includes information of a proprietary or confidential nature, including technical information; financial data, such as salaries, and personal information concerning individuals associated with the program. These matters are exempt under 5 U.S.C. 552b(c), (4) and (6) of the Government in the Sunshine Act.

Dated: May 10, 2024.
Crystal Robinson,
Committee Management Officer.

[FR Doc. 2024-10697 Filed 5-15-24; 8:45 am]

BILLING CODE 7555-01-P